ENVIRONMENTAL PROTECTION AGENCY

40 CFR Part 271

[FRL-7836-1]

Maine: Proposed Authorization of State Hazardous Waste Management Program Revisions

AGENCY: Environmental Protection Agency (EPA).

ACTION: Proposed rule.

SUMMARY: Maine has applied to EPA for Final authorization of changes to its hazardous waste program under the Resource Conservation and Recovery Act (RCRA). EPA proposes to grant final authorization to Maine. In the “Rules and Regulations” section of this Federal Register, EPA is authorizing these changes by an immediate final rule. EPA did not make a proposal prior to the immediate final rule because we believe this action is not controversial and do not expect adverse comments that oppose it. We have explained the reasons for this authorization in the preamble to the immediate final rule. Unless we get written comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Send your written comments by December 9, 2004.

ADDRESSES: Written comments should be mailed to Sharon Leitch, Hazardous Waste Unit, EPA Region 1, One Congress St., Suite 1100 (CHW), Boston, MA 02114-2023, or e-mailed to: leitch.sharon@epa.gov.

Dockets containing copies of the State of Maine's revision application and the materials which the EPA used in evaluating the revision have been established at the following two locations: (i) EPA Region 1 Library, One Congress Street-11th Floor, Boston, MA 02114-2023; business hours Monday through Thursday 10 a.m.-3 p.m., tel: (617) 918-1990; and (ii) Maine Department of Environmental Protection, Hospital Street, Augusta, ME 04333; business hours Monday through Thursday 8:30 a.m.-4:30 p.m., and Friday 8:30 a.m.-12:30 p.m., tel: (207) 287-7843. Records in these dockets are available for inspection and copying during normal business hours.

FOR FURTHER INFORMATION CONTACT: Sharon Leitch, Hazardous Waste Unit, EPA Region 1, One Congress St., Suite 1100 (CHW), Boston, MA 02114-2023; tel: (617) 918-1647, e-mail: leitch.sharon@epa.gov.

SUPPLEMENTARY INFORMATION: For additional information, please see the immediate final rule published in the “Rules and Regulations” section of this Federal Register.

Dated: October 28, 2004.
Ira Leighton,
Acting Regional Administrator, EPA New England.

[FR Doc. 04-24921 Filed 11-8-04; 8:45 am]

BILLING CODE 6560-50-P